FEDERAL MARITIME COMMISSION

Sunshine Act Meeting

Agency Holding the Meeting: Federal Maritime Commission.

Time and Date: 10 a.m.-December 6, 2000.

Place: 800 North Capitol Street, N.W., First Floor Hearing Room, Washington, D.C.

Status: Closed.

Matters to be Considered: 1. Docket No. 98-14—Shipping Restrictions, Requirements and Practices of the People's Republic of China.

2. Docket No. 99-19—William J. Brewer v. Saeid B. Maralan (a/k/a Sam Bustani) and World Line Shipping, Inc.

3. Docket No. 96-05—Rose International, Inc. v. Overseas Moving Network International.

Contact Person for More Information: Bryant L. VanBrakle, Secretary, (202) 523-5725.

Bryant L. VanBrakle,
Secretary.

[FR Doc. 00-30789 Filed 11-29-00; 2:05 pm]

BILLING CODE 6730-01-M